DEPARTMENT OF COMMERCE

National Telecommunications and Information Administration

Proposed Information Collection; Comment Request; NTIA/FCC Web-Based Frequency Coordination System

AGENCY: National Telecommunications and Information Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 20, 2020.

ADDRESSES: Direct all written comments to Edward F. Drocella, Office of Spectrum Management, National Telecommunications and Information Administration, 1401 Constitution Avenue NW, Room 6725, Washington, DC 20230 (or via the internet at PRAComments@doc.gov). All comments submitted in response to this notice are a part of the public record and will be made available to the public, which may include posting them on the Regulations.gov website. Comments will generally be posted without change. Please do not include information of a confidential nature, such as sensitive personal information or proprietary information. All Personally Identifiable Information (for example, name and address) voluntarily submitted may be publicly accessible. If you send an email comment, your email address will be automatically captured and included as part of the comment that is placed in the public docket. Please note that comments that include a message stating the confidentiality of the communication will be treated as public comments and will be made available to the public.

FOR FURTHER INFORMATION CONTACT: Requests for additional information or copies of the information collection instrument and instructions should be directed to Edward F. Drocella, Office of Spectrum Management, National Telecommunications and Information Administration, 1401 Constitution Avenue NW, Room 6725, Washington, DC 20230, (202) 482-2608, edrocella@ntia.gov.

SUPPLEMENTARY INFORMATION:

I. Abstract

The National Telecommunications and Information Administration (NTIA) hosts a web-based system that collects specific identification information (e.g., company name, location and projected range of the operation, etc.) from applicants seeking authorization by the Federal Communications Commission (FCC) to operate in radio frequency (RF) bands that are shared on a co-primary basis by federal and non-federal users. The web-based system provides a means for non-federal applicants to rapidly determine the availability of RF spectrum in a specific location, or the need for detailed frequency coordination of a specific newly proposed assignment within the shared portions of the radio spectrum. The website allows proposed radio site information of a non-federal applicant to be analyzed, and a real-time determination made as to whether there is a potential for interference to, or from, existing Federal government radio operations in the vicinity of the proposed site. This web-based coordination helps expedite the coordination process for non-federal applicants while assuring protection of government data relating to national security. The information provided by non-federal applicants will also assure the protection of the applicant's station from radio frequency interference from future government operations.

II. Method of Collection

NTIA collects the data by means of an internet web-based system. The applications on the website provide real-time responses to obtain either: (1) A validation of the coordination of a single frequency, or (2) a notification of the unavailability of a frequency at the one site and that further coordination will be required by the FCC and NTIA.

III. Data

OMB Control No: 0660-0018.

Form No.: N/A.

Type of Review: Regular submission (extension of currently approved information collection).

Affected Public: Applicants seeking to operate in the 71-76 GHz, 81-86 GHz, and 92-95 GHz radio frequency bands.

Estimated Total Number of Respondents: 5,500.

Estimated Time per Response: 15 minutes.

Estimated Total Annual Burden Hours: 1,375.

Estimated Total Annual Cost to Public: $0.00.

IV. Request for Comments

Comments are invited on: (a) Whether the proposed collection of information is necessary for the proper performance of the functions of the agency, including whether the information shall have a practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-03355 Filed 2-19-20; 8:45 am]

BILLING CODE 3510-60-P